NUCLEAR REGULATORY COMMISSION

[NRC-2010-0158]

Draft Regulatory Guide, DG-4018, “Constraint on Releases of Airborne Radioactive Materials To the Environment for Licensees Other Than Power Reactors,” Proposed Revision 1 of Regulatory Guide 4.20; Draft Regulatory Guide Issuance and Availability; Correction and Reopening of Comment Period

AGENCY: Nuclear Regulatory Commission.

ACTION: Draft Regulatory Guide Notice of Issuance; Correction and Reopening of Comment Period.

SUMMARY: On April 20, 2010 (75 FR 20645), the U. S. Nuclear Regulatory Commission (NRC) published a notice of issuance and availability of Draft Regulatory Guide (DG)-4018, “Constraint on Releases of Airborne Radioactive Materials to the Environment for Licensees Other than Power Reactors.” This Federal Register Notice stated that DG-4018 was a proposed Revision 2 of Regulatory Guide 4.2; however, DG-4018 is a proposed Revision 1 of Regulatory Guide 4.20. Due to the typographical error, this is being reissued.

DATES: The comment period closes on August 23, 2010.

FOR FURTHER INFORMATION CONTACT: Gregory C. Chapman, U.S. Nuclear Regulatory Commission, Washington, DC 20555-0001, telephone (301) 492-3106, or e-mail Gregory.Chapman@nrc.gov.

ADDRESSES: You may submit comments by any one of the following methods. Please include Docket ID NRC-2010-0158 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0158. Address questions about NRC dockets to Carol Gallagher 301-492-3668; e-mail Carol.Gallagher@nrc.gov.

Mail comments to: Cindy K. Bladey, Chief, Rules, Announcements, and Directives Branch (RADB), Division of Administrative Services, Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Public File Area 01 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Draft Regulatory Guide, DG-4018, “Constraint on Releases of Airborne Radioactive Materials to the Environment for Licensees Other than Power Reactors,” is available electronically under ADAMS Accession Number ML092600090.

SUPPLEMENTARY INFORMATION: On April 20, 2010 (75 FR 20645), the NRC published a notice of issuance and availability of DG-4018, “Constraint on Releases of Airborne Radioactive Materials to the Environment for Licensees Other than Power Reactors,” and sought public comments. In the introduction section, second paragraph of page 20645, the regulatory guide and revision numbers read “Revision 2 of Regulatory Guide 4.2” but should have been “Revision 1 of Regulatory Guide 4.20.” Due to this error, the public comment period is being reopened to give all interested parties an opportunity to comment on DG-4018. The comment submittal deadline is August 23, 2010.

Dated at Rockville, Maryland, this 17th day of June, 2010.
For the Nuclear Regulatory Commission.
Andrea D. Valentin,
Chief, Regulatory Guide Development Branch, Division of Engineering, Office of Nuclear Regulatory Research.

[FR Doc. 2010-15440 Filed 6-24-10; 8:45 am]

BILLING CODE 7590-01-P